DEPARTMENT OF EDUCATION

Privacy Act of 1974; Computer Matching Program

AGENCY: Department of Education.

ACTION: Notice of renewal of the computer matching program between the Department of Education and the Department of Veterans Affairs.

SUMMARY: Pursuant to the Computer Matching and Privacy Protection Act of 1988, (Pub.L. 100-503), and the Office of Management and Budget (OMB) Final Guidelines on the Conduct of Matching Programs, notice is hereby given of the renewal of the computer matching program between the Department of Education (ED) (the recipient agency) and the Department of Veterans Affairs (VA) (the source agency). After a new computer matching agreement has been approved by the ED and VA Data Integrity Boards, the computer matching program will begin on the effective date as specified in the agreement and as indicated in paragraph 5, below.

In accordance with the Privacy Act of 1974 (5 U.S.C. 552a), as amended by the Computer Matching and Privacy Protection Act of 1988, OMB Final Guidelines on the Conduct of Matching Programs (54 FR 25818, June 19, 1989), and OMB Circular No. A-130, the following information is provided:

1. Names of Participating Agencies.

The U.S. Department of Education and the U.S. Department of Veterans Affairs.

2. Purpose of the Match.

The purpose of this matching program between ED and VA is to verify the status of applicants for financial assistance under Title IV of the Higher Education Act of 1965, as amended (HEA), who claim to be veterans.

The Secretary of ED is authorized by the HEA to administer the Title IV programs and to enforce the terms and conditions of the HEA. The Secretary has the authority to treat veterans as independent applicants. Applicants who are determined to be veterans do not have to provide parental income and asset information to apply for Title IV, HEA program assistance.

Section 480(c)(1) of the HEA defines the term “veteran” to mean “any individual who (A) has engaged in active duty in the United States Army, Navy, Air Force, Marines, or Coast Guard; and (B) was released under a condition other than dishonorable.” (20 U.S.C. 1087vv(c)(1)). Section 480(d)(3) of the HEA enables an applicant who is determined to be a veteran (as defined in subsection (c)(1)) to meet the definition of an independent student for purposes of Title IV, HEA program assistance eligibility. (20 U.S.C. 1087vv(d)(3)).

3. Legal Authority for Conducting the Matching Program.

ED is authorized to conduct the matching program under sections 480(c) and (d)(3) of the HEA (20 U.S.C. 1087vv(c)(1) and (d)(3)) and 5 U.S.C. 552a. The VA's authority is 38 U.S.C. 523.

4. Categories of Records and Individuals Covered by the Match.

ED will provide the Social Security Number and other identifying information of each applicant who indicates that he or she is a veteran. This information will be extracted from the Federal Student Aid Application File systems of records (18-11-01), pursuant to routine use no. 16, as corrected by 66 FR 18758 (April 11, 2001). The ED data will be matched against the Veterans and Beneficiaries Identification and Records Location Subsystem—VA (38VA21), routine use no. 21, as added by 66 FR 30049-50 (June 4, 2001).

5. Effective Dates of the Matching Program.

The matching program will become effective on (1) December 24, 2003, the day after the expiration of the current computer matching agreement (CMA); (2) thirty (30) days after this notice of the matching program has been published in the Federal Register; or (3) forty (40) days after a report concerning the matching program has been transmitted to the Office of Management and Budget and the Congress, whichever date occurs last. The matching program will continue for 18 months after the effective date and may be extended for an additional 12 months thereafter, if the conditions specified in 5 U.S.C. 552a(o)(2)(D) have been met.

6. Address for Receipt of Public Comments or Inquiries.

Individuals wishing to comment on this matching program or obtain additional information about the program, including requesting a copy of the computer matching agreement between ED and VA, should contact Ms. Marya Dennis, Management and Program Analyst, U.S. Department of Education, 3111 Union Center Plaza, 830 First Street NE., Washington, DC 20202. Telephone: (202) 377-3385. If you use a telecommunications device for the deaf (TDD), you may call the Federal Information Relay Service (FIRS) at 1-800-877-8339.

Individuals with disabilities may obtain this document in an alternative format (e.g., Braille, large print, audiotape or computer diskette) on request to the contact person listed in the preceding paragraph.

Electronic Access to the Document

You may view this document, as well as all other Department of Education documents published in the Federal Register, in text or Adobe Portable Document Format (PDF) on the Internet at the following site: http://www.ed.gov/news/fedregister.

To use PDF you must have the Adobe Acrobat Reader, which is available free at this site. If you have questions about using PDF, call the U.S. Government Printing Office (GPO), toll free at 1-888-293-6498, or in the Washington, DC, area at (202) 512-1530.

Note: The official version of this document is the document published in the Federal Register. Free Internet access to the official edition of the Federal Register and Code of Federal Regulations is available on GPO access at: http://www.gpoaccess.gov/nara/index.html.

Authority: 5 U.S.C. 552a; Pub. L. 100-503.

Dated: October 24, 2003.
Theresa S. Shaw,
Chief Operating Officer, Federal Student Aid.

[FR Doc. 03-27375 Filed 10-29-03; 8:45 am]

BILLING CODE 4000-01-P